DEPARTMENT OF THE INTERIOR

Fish and Wildlife Service

[FWS-HQ-IA-2012-N189; FXIA16710900000P5-123-FF09A30000]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibit activities with listed species unless Federal authorization is acquired that allows such activities.

DATES: We must receive comments or requests for documents on or before September 4, 2012. We must receive requests for marine mammal permit public hearings, in writing, at the address shown in the ADDRESSES section by September 4, 2012.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), and the Marine Mammal Protection Act of 1972, as amended (16 U.S.C. 1361 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken. Under the MMPA, you may request a hearing on any MMPA application received. If you request a hearing, give specific reasons why a hearing would be appropriate. The holding of such a hearing is at the discretion of the Service Director.

III. Permit Applications

A. Endangered Species

Applicant: Miami-Dade Zoological Parks and Gardens (Zoo Miami), Miami, FL; PRT-75942A

The applicant requests a permit to import two male cheetahs (Acinonyx jubatus) that were bred in captivity in South Africa at the Ann van Dyk Cheetah Centre for the purpose of enhancement of the survival of the species.

Applicant: Riverbanks Zoo and Garden, Columbia, SC; PRT-74896A

The applicant requests a permit to import one male captive-born Amur tiger (Panthera tigris altaica) from Toronto Zoo, Ontario, CA, for the purpose of enhancement of the survival of the species.

Applicant: Indianhead Ranch, Inc., Del Rio, TX; PRT-67596A

The applicant requests a permit to export the sport-hunted trophy of one male Addax (Addax nasomaculatus) culled from a captive herd maintained in the state of Texas, for the purpose of enhancement of the survival of the species.

Applicant: Wildlife Artistry Taxidermy, Centreville, MD; PRT-77276A

The applicant requests a permit to export the sport-hunted trophy of one male Addax (Addax nasomaculatus) culled from a captive herd maintained in the state of Texas, for the purpose of enhancement of the survival of the species.

Applicant: Monterey Bay Aquarium, Monterey, CA; PRT-186914

The applicant requests a permit to take up to 10 southern sea otters (Enhydra lutris nereis) annually from the wild (animals that are rescued for rehabilitation and release) for the purpose of scientific research on the pharmacokinetics of the antibiotic cefovecin. This notification covers activities to be conducted by the applicant over the remainder of the 5-year period for which the permit would be valid.

Applicant: Wildlife Conservation Society, Bronx, NY; PRT-033594

The applicant requests renewal of their permit to import biological samples collected from wild, captive-held, and/or captive-born specimens of endangered animal species from worldwide locations, for the purpose of scientific research. No animals may be intentionally killed for the purpose of collecting such samples. Any invasively collected samples can only be collected by trained personnel. This notification covers activities to be conducted by the applicant over a 5-year period.

Applicant: A.C. Ranch, Sonora, TX; PRT-73894A

The applicant requests a captive-bred wildlife registration under 50 CFR 17.21(g) for the addax (Addax nasomaculatus), to enhance their propagation or survival. This notification covers activities to be conducted by the applicant over a 5-year period.

Applicant: A.C. Ranch, Sonora, TX; PRT-73893A

The applicant requests a permit authorizing interstate and foreign commerce, export, and cull of excess addax (Addax nasomaculatus) from the captive herd maintained at their facility, for the purpose of enhancement of the survival of the species. This notification covers activities to be conducted by the applicant over a 5-year period.

Applicant: Dub Wallace Ranch LLC, Sonora, TX; PRT-75592A

The applicant requests a captive-bred wildlife registration under 50 CFR 17.21(g) for the scimitar-horned oryx (Oryx dammah), to enhance their propagation or survival. This notification covers activities to be conducted by the applicant over a 5-year period.

Applicant: Dub Wallace Ranch LLC, Sonora, TX; PRT-75535A

The applicant requests a permit authorizing interstate and foreign commerce, export, and cull of excess scimitar-horned oryx (Oryx dammah), from the captive herd maintained at their facility, for the purpose of enhancement of the survival of the species. This notification covers activities to be conducted by the applicant over a 5-year period.

B. Endangered Marine Mammals and Marine Mammals

Applicant: U.S. Geological Service, Alaska Science Center, Anchorage, AK; PRT-690038

The applicant requests to renew the permit for to take polar bears (Ursus maritimus) in Alaska and to import and export biological samples for the purpose of scientific research. The take activities include capture, recapture, and release; tag, mark, and radio collar; administer oxytocin to females, biopsy dart, conduct bio-electrical impedance analysis, administer doubly-labeled water; survey maternal dens; aerial survey; and collection of biometrics and biological samples from both live and dead animals. This notification covers activities to be conducted by the applicant over a 5-year period.

Applicant: Darlene Ketten, Ph.D., Woods Hole Oceanographic Institute, Woods Hole, MA; PRT-130062

On July 27, 2012, (77 FR 44264), we published a notice receipt of permit applications for that contained incorrect information for the applicant. The correct information should read as follows:

The applicant requests renewal of the permit to authorize import, export, and acquisition of dead specimens, including whole carcasses, heads, and temporal bones from marine otter (Lontra felina), all sea otters (Enhydra lutris), walrus (Odobenus rosmarus), polar bear (Ursus maritimus), all manatee species (Trichechus spp.), and dugongs (Dugong dugon) for the purpose of scientific research on the hearing physiology of marine mammals. This notification covers activities to be conducted by the applicant over a 5-year period.

Concurrent with publishing this notice in the Federal Register, we are forwarding copies of the above applications to the Marine Mammal Commission and the Committee of Scientific Advisors for their review.

Brenda Tapia,
Program Analyst/Data Administrator, Branch of Permits, Division of Management Authority.

[FR Doc. 2012-19007 Filed 8-2-12; 8:45 am]

BILLING CODE 4310-55-P